DEPARTMENT OF THE INTERIOR

Fish and Wildlife Service

[FWS-R1-R-2010-N084; 10137-1265-0000]

Bear Lake National Wildlife Refuge, Oxford Slough Waterfowl Production Area, ID

AGENCY: Fish and Wildlife Service, Interior.

ACTION: Notice of Intent to prepare a Comprehensive Conservation Plan and Environmental Assessment; request for comments.

SUMMARY: We, the U.S. Fish and Wildlife Service (Service), intend to prepare a Comprehensive Conservation Plan (CCP) and associated National Environmental Policy Act (NEPA) documents for Bear Lake National Wildlife Refuge (NWR, Refuge), 7 miles south of Montpelier, Idaho, the Refuge-managed Thomas Fork Unit (Unit) in Montpelier, and the Oxford Slough Waterfowl Production Area (WPA) in Oxford, Idaho. We are providing this notice in compliance with our CCP policy to advise other Federal and State agencies, Tribes, and the public of our intentions and to obtain suggestions and information on the scope of issues to consider in the planning process.

DATES: To ensure consideration, we must receive your written comments by July 23, 2010. We will announce opportunities for public input in local news media throughout the CCP planning process.

ADDRESSES: Send your comments or requests for more information by any of the following methods:

E-mail: annette_deknijf@fws.gov. Include “Bear Lake CCP EA” in the subject line of the message.

Fax: Attn: Annette de Knijf, 208-847-1319.

U.S. Mail: Bear Lake NWR, Box 9, Montpelier, ID 83254.

In-Person Drop-off: You may drop off comments during regular business hours at Refuge Headquarters at 370 Webster St., Montpelier, ID.

FOR FURTHER INFORMATION CONTACT: Annette de Knijf, 208-847-1757.

SUPPLEMENTARY INFORMATION:

Introduction

With this notice, we initiate our process for developing a CCP for the Bear Lake NWR in Bear Lake County, and Oxford Slough WPA in Franklin and Bannock Counties, Idaho. This notice complies with our CCP policy to (1) Advise other Federal and State agencies, Tribes, and the public of our intention to conduct detailed planning on this Refuge and WPA, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management of goals and objectives for each refuge within the National Wildlife Refuge System mission, and to determine how the public can use each refuge. The planning process is a way for us and the public to evaluate management goals and objectives for the best possible conservation approach to this important wildlife habitat, while providing for wildlife-dependent recreational opportunities that are compatible with each refuge's establishing purposes and the mission of the National Wildlife Refuge System.

Our CCP process provides participation opportunities for Tribal, State, and local governments; agencies; organizations; and the public. At this time we encourage input in the form of issues, concerns, ideas, and suggestions for the future management of Bear Lake NWR and Oxford Slough WPA.

We will conduct the Environmental Assessment (EA) of this project in accordance with the requirements of the National Environmental Policy Act of 1969, as amended (NEPA) (42 U.S.C. 4321 et seq.); NEPA regulations (40 CFR parts 1500-1508); other appropriate Federal laws and regulations; and our policies and procedures for compliance with those laws and regulations.

Bear Lake National Wildlife Refuge

Bear Lake NWR was established in 1968 and is located in Bear Lake County, near the community of Montpelier, in southeast Idaho. The Refuge lies in Bear Lake Valley at approximately 5,925 feet in elevation in the historic location of the Dingle Swamp. The Thomas Fork Unit is a 1015-acre tract of land managed by the Refuge and situated at an elevation of 6,060 feet, approximately 20 miles east of Montpelier, Idaho, along U.S. Hwy. 30, near Border, Wyoming, The Unit's eastern boundary is the Wyoming State line.

The Refuge is composed of an 18,000-acre emergent marsh, 1,600 acres of uplands, and 5 miles of riparian streams. Approximately 100 species of migratory birds nest at Bear Lake NWR, including large concentrations of colonial waterbirds, and many other species of wildlife utilize the Refuge during various periods of the year. In the early 1900s, the Telluride Canal Company substantially modified the natural hydrology of the former Dingle Swamp by diverting the Bear River to flow into Bear Lake for irrigation storage. The indirect effects were numerous and significantly altered the hydrology and ecological processes of the Bear Lake Watershed.

Oxford Slough Waterfowl Production Area

Oxford Slough is the Service's only waterfowl production area in the Service's northwest region. It is located 10 miles north of Preston, Idaho, abutting the small town of Oxford. Oxford Slough, situated in the Cache Valley, is the drainage for Oxford and Deep Creeks as well as other streams and creeks in the surrounding mountain ranges. The Oxford Slough WPA provides valuable foraging habitat for species such as cranes, geese, Franklin's gulls, and white-faced ibis, and nesting habitat for many shorebird species.

Scoping: Preliminary Issues, Concerns, and Opportunities

We have identified preliminary issues, concerns, and opportunities that we may address in the CCP. We have briefly summarized these issues below. During public scoping, we may identify additional issues.

At Bear Lake NWR, Oxford Slough WPA, and the Thomas Fork Unit, the Service will evaluate: (1) Water management schedules to improve Refuge wildlife habitats and values; (2) How the Service can protect and improve the quantity and quality of water for fish and wildlife resources; (3) Actions required to minimize disturbance within the Refuge to nesting and migrating waterbirds and wildlife; (4) How the Refuge can meet increasing demands for recreational opportunities and provide quality visitor services programs in consideration of wildlife disturbance issues; (5) The best means to attain productive deep marsh habitats for Refuge wildlife which match or mimic the natural and historic vegetative composition and open water interspersion of the Bear Lake Watershed; (6) What can be done to prevent the introduction and dispersal of invasive plants and animals and facilitate their removal from the Refuge; (7) The Refuge's role in supporting native fish and riparian habitat restoration; (8) The restoration of native sagebrush habitats to support the long-term viability of native wildlife populations; (9) The most appropriate management techniques for the Refuge's wet meadow and upland habitats to maximize habitat values for key wildlife species (e.g., sandhill cranes, Canada geese), while assuring other native wildlife cover and forage requirements are also satisfied; (10) How the Refuge can adaptively manage in response to predicted and unpredicted challenges faced by climate change; and (11) How the Refuge can most appropriately assess the efficacy of management actions at the appropriate spatial and temporal scale.

Public Meetings

We will involve the public through open houses, informational and technical meetings, and written comments. We will release mailings, news releases, and announcements to provide information about opportunities for public involvement in the planning process.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: May 17, 2010.
Richard Hannan,
Acting Regional Director, Region 1, Portland, Oregon.

[FR Doc. 2010-15201 Filed 6-22-10; 8:45 am]

BILLING CODE 4310-55-P